DEPARTMENT OF TRANSPORTATION

Pipeline and Hazardous Materials Safety Administration

Special Permit Applications

AGENCY: Pipeline And Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (May to May 2013). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on June 11, 2013.
Donald Burger,
Chief, Special Permits and Approvals Branch.

S.P No. | Applicant | Regulation(s) | Nature of special permit thereof
MODIFICATION SPECIAL PERMIT GRANTED
13336-M | Renaissance Industries Sharpsville, PA | 49 CFR 173.302(a)(1) and 173.304 | To modify the special permit to authorize additional seamless stainless steel type 304 packaging and remove requirements when reoffered for transportation.
NEW SPECIAL PERMIT GRANTED
15806-N | Precision Technik Atlanta, GA | 49 CFR 173.201, 173.202, 173.203, 173.302a, 173.304a, and 180.209 | To authorize the manufacture, mark, sell, and use of non-DOT Specification salvage cylinders.
15779-N | Patterson Logistics Services, Inc. Boone, IA | 49 CFR 173.304a | To authorize the transportation in commerce of approximately 254 non-DOT Specification non-refillable metal receptacles containing a flammable gas that meet DOT 2Q but are not marked with the specification. (modes 1, 3)
15830-N | Maine Helicopters, Inc. Whitefield, ME | 49 CFR 49 CFR Table § 172.101, Column(9B), § 172.204(c)(3), § 173.27(b)(2) § 175.30(a)(1) § 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4)
15848-N | Ambri, Inc. Cambridge, MA | 49 CFR 173.222(c)(1) | To authorize the transportation in commerce of Dangerous Goods in Equipment containing a lithium battery that exceeds the net quantity weight restriction when transported by motor vehicle and rail freight. (modes 1, 2)
EMERGENCY SPECIAL PERMIT GRANTED
15854-N | Colmac Coil Manufacturing, Inc. Colville, WA | 49 CFR 173.222, IMDG Code, Special Provision 301 | To authorize the transportation in commerce of methanol in alternative packaging by motor vehicle and cargo vessel. (modes 1, 3)
NEW SPECIAL PERMIT WITHDRAWN
15775-N | PHI, Inc. Lafayette, LA | 49 CFR 175.75(e)(3)(i), (ii), and (iii); 175.700(a) | To authorize the use of aircraft requiring more than one pilot to remote oil and gas drilling platforms. (mode 4)
DENIED
14839-M | Request by Matheson Tri-Gas, Inc. Basking Ridge, NJ May 24, 2013.
14372-M | Request by Dassault Falcon Jet Corp. Little Ferry, NJ May 13, 2013. To modify the special permit to add an additional type certificate to 7.b.(2) and to allow production markings to be obliterated as part of the retest.

[FR Doc. 2013-14342 Filed 6-18-13; 8:45 am]

BILLING CODE 4990-60-M